DEPARTMENT OF HOMELAND SECURITY

Coast Guard

33 CFR Part 117

[CGD08-06-035]

Drawbridge Operation Regulations; Gulf Intracoastal Waterway, Harvey, LA

AGENCY: Coast Guard, DHS.

ACTION: Notice of temporary deviation from regulations.

SUMMARY: The Commander, Eighth Coast Guard District, has issued a temporary deviation from the regulation governing the operation of the Harvey Canal Railroad Bascule Bridge across the Harvey Canal, mile 0.2 (Gulf Intracoastal Canal, mile 0.2 west of Harvey Lock, near Gretna, Jefferson Parish, Louisiana. This deviation provides for the bridge to remain closed to navigation for 60 consecutive hours to conduct scheduled maintenance to the drawbridge.

DATES: This deviation is effective from 6 p.m. on Friday, October 13, 2006 until 6 a.m. on Monday, October 16, 2006.

ADDRESSES: Materials referred to in this document are available for inspection or copying at the office of the Eighth Coast Guard District, Bridge Administration Branch, Hale Boggs Federal Building, room 1313, 500 Poydras Street, New Orleans, Louisiana 70130-3310 between 7 a.m. and 3 p.m., Monday through Friday, except Federal holidays. The telephone number is (504) 671-2128. The Bridge Administration Branch of the Eighth Coast Guard District maintains the public docket for this temporary deviation.

FOR FURTHER INFORMATION CONTACT: David Frank, Bridge Administration Branch, telephone (504) 671-2129.

SUPPLEMENTARY INFORMATION: The New Orleans and Gulf Coast Railway Company has requested a temporary deviation in order to perform necessary maintenance on the rail line of the Harvey Canal Railroad Bascule Bridge across the Harvey Canal, mile 0.2 (Gulf Intracoastal Canal, mile 0.2 west of Harvey Lock, near Gretna, Jefferson Parish, Louisiana. The maintenance is essential for the continued safe operation of the draw span of the railroad bridge. This temporary deviation will allow the bridge to remain in the closed-to-navigation position from 6 p.m. on Friday, October 13, 2006 until 6 a.m. on Monday, October 16, 2006.

The bridge has a vertical clearance of 9 feet above mean high water in the closed-to-navigation position and 75 feet above mean high water in the open-to-navigation position. Navigation on the waterway consists mainly of tugs with tows. Mariners may use the Gulf Intracoastal Waterway (Algiers Alternate Route) to avoid unnecessary delays.

The Coast Guard has coordinated the closure with waterway users, industry, and other Coast Guard units. It has been determined that this closure will not have a significant effect on vessel traffic.

In accordance with 33 CFR 117.35(c), this work will be performed with all due speed in order to return the bridge to normal operation as soon as possible. This deviation from the operating regulations is authorized under 33 CFR 117.35.

Dated: September 15, 2006.
Marcus Redford,
Bridge Administrator.

[FR Doc. E6-16428 Filed 10-4-06; 8:45 am]

BILLING CODE 4910-15-P